DEPARTMENT OF HOMELAND SECURITY

Coast Guard

33 CFR Part 117

[Docket No. USCG-2013-0031]

Drawbridge Operating Regulations; Gulf Intracoastal Waterway, Belle Chasse, LA

AGENCY: Coast Guard, DHS.

ACTION: Notice for temporary deviation from regulation; change of effective period.

SUMMARY: The Coast Guard is modifying the effective date of a published temporary deviation from the operating schedule that governs the Louisiana State Route 23 (LA 23) vertical lift span bridge, also known as the Judge Perez Bridge, across the Gulf Intracoastal Waterway (Algiers Alternate Route), mile 3.8, at Belle Chasse, Plaquemines Parish, Louisiana. The modification of the effective period is necessary to further minimize the effects on navigation caused by the temporary deviation. The deviation is necessary to complete scheduled repairs necessitated by a bridge allision. This deviation allows the bridge to remain closed to navigation for eight consecutive days starting February 23, 2013, in order to perform scheduled maintenance.

DATES: This deviation amends the deviation published at 78 FR 6208 on January 30, 2013, and establishes the effective period of the deviation as being from 6 a.m. on Saturday, February 23, 2013, until 6 a.m. on Sunday, March 3, 2013.

ADDRESSES: The docket for this notice, USCG-2013-0042, is available online at www.regulations.gov by typing in the docket number in the “SEARCH” box and clicking “SEARCH.” Click on Open Docket Folder on the line associated with this notice. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email David Frank, Bridge Administration Branch, Coast Guard, telephone (504) 671-2128, email David.m.frank@uscg.mil. If you have questions on viewing the docket, call Barbara Hairston, Program Manager, Docket Operations, telephone 202-366-9826.

SUPPLEMENTARY INFORMATION: On January 30, 2013, the Coast published a notice of temporary deviation from regulation in the Federal Register (78 FR 6208-6209). C.E.C., Inc, on behalf of the Louisiana Department of Transportation and Development (LDOTD) has requested a temporary deviation in order to perform maintenance on the State Route 23 (LA 23) vertical lift span bridge, also known as the Judge Perez Bridge, across the Gulf Intracoastal Waterway (Algiers Alternate Route), mile 3.8, at Belle Chasse, Plaquemines Parish, Louisiana. Now, C.E.C, on behalf of LDOTD has requested to adjust the dates of the impending closure forward one day to better serve the general public with the proposed closure. The modification of the schedule has been vetted with waterway users and no objections were received with regards to the proposed change in schedule. This modified deviation will still allow the bridge to remain closed to navigation for eight consecutive days in order to perform scheduled maintenance, but the start date is now February 23, 2013, and the end date is now March 3, 2013.

Notices of the deviation schedule will be published in the Eighth Coast Guard District Local Notice to Mariners and will be broadcast via the Coast Guard Broadcast Notice to Mariners System.

In accordance with 33 CFR 117.35(e), the drawbridge must return to its regular operating schedule immediately at the end of the designated time period. This deviation from the operating regulations is authorized under 33 CFR 117.35.

Dated: February 4, 2013.
David M. Frank,
Bridge Administrator, Eighth Coast Guard District.

[FR Doc. 2013-03123 Filed 2-11-13; 8:45 am]

BILLING CODE 9110-04-P